INTERNATIONAL TRADE COMMISSION

[Investigation No. 337-TA-1224]

Certain Digital Video-Capable Devices and Components Thereof; Institution of Investigation

AGENCY: U.S. International Trade Commission.

ACTION: Notice.

SUMMARY: Notice is hereby given that a complaint was filed with the U.S. International Trade Commission on September 18, 2020, under section 337 of the Tariff Act of 1930, as amended, on behalf of Koninklijke Philips N.V. of the Netherlands and Philips North America LLC of Cambridge, Massachusetts. The complaint alleges violations of section 337 based upon the importation into the United States, the sale for importation, and the sale within the United States after importation of certain digital video-capable devices and components thereof by reason of infringement of U.S. Patent No. 9,436,809 (“the '809 patent”); U.S. Patent No. 9,590,977 (“the '977 patent”); U.S. Patent No. 10,091,186 (“the '186 patent”); and U.S. Patent No. 10,298,564 (“the '564 patent”). The complaint further alleges that an industry in the United States exists as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on October 16, 2020, Ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-6, 9, 11, 12, 14, 15, 17, 22, 23, 26, 49, 50, and 52-54 of the '809 patent; claims 1-3, 8-12, and 14-20 of the '977 patent; claims 1-7, and 9-16 of the '186 patent; and claims 1-11, 14-23, 25, and 28 of the '564 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “(a) digital video-capable integrated circuits supplied by Intel, LG, MediaTek, and Realtek, printed circuit board assemblies incorporating the same, and any associated hardware, software, and/or firmware enabling digital video capabilities; (b) digital video-capable displays containing such components; and (c) digital video-capable computers containing such components”;

(3) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1) and (f)(1);

(4) For the purpose of the investigation so instituted, the following are hereby named as parties upon which this notice of investigation shall be served:

(a) The complainants are:

Koninklijke Philips N.V., High Tech Campus 5, 5656 AE Eindhoven, Netherlands

Philips North America LLC, 222 Jacobs Street, Cambridge, Massachusetts 02141

(b) The respondents are the following entities alleged to be in violation of section 337, and are the parties upon which the complaint is to be served:

Dell Technologies Inc., One Dell Way, Round Rock, Texas 78682-7000

Dell Inc., One Dell Way, Round Rock, Texas 78682-7000

Hisense Co. Ltd., Hisense Tower, No. 17 Donghaixi Road, South District, Qingdao, Shandong Province 266071, China

Hisense Visual Technology Co., Ltd. (f/k/a Qingdao Hisense Electric Co., Ltd.), No. 218 Qianwangang Road, Qingdao Economic & Technological Development Zone, Qingdao, Shandong Province 266555, China

Hisense Electronics Manufacturing, Company of America Corporation, 7310 McGinnis Ferry Road, Suwanee, GA 20024

Hisense USA Corporation, 7310 McGinnis Ferry Road, Suwanee, GA 20024

Hisense Import & Export Co. Ltd., Hisense Tower, No. 17 Donghaixi Road, South District, Qingdao, Shandong Province 266071, China

Hisense International Co., Ltd., Hisense Tower, Floor 22, No. 17 Donghaixi Road, South District, Qingdao, Shandong Province 266071, China

Hisense International (HK) Co., Ltd., Room 3101-3105, Singga Commercial Centre, No. 148 Connaught Road West, Sheung Wan, Hong Kong (SAR)

Hisense International (Hong Kong) America Investment Co., Ltd., Room 3101-3105, Singga Commercial Centre, No. 148 Connaught Road West, Sheung Wan, Hong Kong (SAR)

HP, Inc., 1501 Page Mill Rd., Palo Alto, CA 94304-1126

Lenovo Group Ltd., Lincoln House, 23rd Floor, Taikoo Place, 979 King's Road, Quarry Bay, Hong Kong (SAR)

Lenovo (United States), Inc., 8001 Development Drive, Morrisville, NC 27560

LG Electronics, Inc., LG Twin Towers, 128, Yeoui-daero, Yeongdeungpo-gu, Seoul, Republic of Korea, 07736

LG Electronics USA, Inc., 1000 Sylvan Avenue, Englewood Cliffs, NJ 07632

TCL Industries Holdings Co., Ltd., 9 Floor, TCL Electronics Holdings Limited Building, TCL International E City, #1001 Zhongshan Park Road, Nanshan District, Shenzhen, Guangdong, 518067, China

TCL Electronics Holdings Ltd. (f/k/a TCL Multimedia Technology Holdings Ltd.) 7/F, TCL Building, 22 Science Park E, Hong Kong Science Park, Hong Kong (SAR)

TCL King Electrical Appliances (Huizhou) Co. Ltd. No. 78 Zhongkai Development Zone, Huizhou, 516006, China

TTE Technology, Inc., 555 South Promenade Avenue, Suite 103, Corona, CA 92881

TCL Moka International Ltd., 7/F Hong Kong Science Park, Bldg. 22 E, 22 Science Park East Avenue, Sha Tin, Hong Kong

TCL Moka Manufacturing S.A. de C.V., Calle 4ta, No. 55, Cd. Industrial, 22444 Tijuana, B.C., Mexico

TCL Smart Device (Vietnam) Company Ltd, No. 26 VSIP II-A, Street 32, Vietnam Singapore Industrial Park II-A Tan Binh Commune, Bac Tan Uyen District, Binh Duong Province, 75000, Vietnam

MediaTek Inc., No. 1, Dusing 1st Road, Hsinchu Science Park, Hsinchu, 30078 Taiwan

MediaTek USA Inc., 2840 Junction Avenue, San Jose, CA 95134

Realtek Semiconductor Corp., No. 2, Innovation Road II, Hsinchu Science Park, Hsinchu 300, Taiwan

Intel Corporation, 2200 Mission College Boulevard, Santa Clara, CA 95054

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: October 16, 2020.
Lisa Barton,
Secretary to the Commission.

[FR Doc. 2020-23358 Filed 10-21-20; 8:45 am]

BILLING CODE 7020-02-P